ENVIRONMENTAL PROTECTION AGENCY

[FRL-7414-1]

The QTRACER2 Program for Tracer-Breakthrough Curve Analysis for Tracer Tests in Karst Aquifers and Other Hydrologic Systems; and A Lexicon of Cave and Karst Terminology With Special Reference to Environmental Karst Hydrology

AGENCY: Environmental Protection Agency.

ACTION: Notice of availability of two final reports and CD-ROMs.

SUMMARY: This notice announces the availability of two final reports, The QTRACER2 Program for Tracer-Breakthrough Curve Analysis for Tracer Tests in Karst Aquifers and Other Hydrologic Systems (EPA/600/R-02/001, May 2002, which supercedes EPA/600/R-98/156a and 156b, February 1999), and A Lexicon of Cave and Karst Terminology with Special Reference to Environmental Karst Hydrology (EPA/600/R-02/003, February 2002, which supercedes EPA/600/R-99/006). These reports were prepared by the U.S. Environmental Protection Agency's (EPA) National Center for Environmental Assessment (NCEA) of the Office of Research and Development (ORD).

The QTRACER2 Program for Tracer-Breakthrough Curve Analysis for Tracer Tests in Karstic Aquifers and Other Hydrologic Systems is a detailed users manual with a CD-ROM. QTRACER2 takes basic input data obtained at the start and finish of a hydrologic tracer test and performs the basic calculations (e.g., numerical integrations necessary for extracting critical hydraulic and geometric information about the flow system under investigation). The executable code, source code, additional related programs, and several example data files are all contained on a CD-ROM. QTRACER2 is an update of the previously released QTRACER to run under Windows with considerable mouse support, including some minor bug fixes and expanded analysis capabilities. For example, short- and long-term pulse tracer releases and continuous tracer releases can now be adequately addressed by QTRACER2.

A Lexicon of Cave and Karst Terminology with Special Reference to Environmental Karst Hydrology is a substantial listing and cross-referencing of major and minor karst-related terminology. This updated version contains some corrections to the previous version and includes numerous biological and ecological terms that were not included in the original release. It includes numerous foreign terms because so much of the literature is developed in other countries and often published in somewhat unknown journals.

DATES: These documents will be available November 27, 2002.

ADDRESSES: These documents are available electronically through the NCEA Web site at (www.epa.gov/ncea). A limited number of paper copies and CDs will be available from the EPA's National Service Center for Environmental Publications (NSCEP), PO Box 42419, Cincinnati, OH 45242; telephone: 1-800-490-9198 or 513-489-8190; facsimile: 513-489-8695; or via the Internet at http://www.epa.gov/NCEPIhome/orderpub.html). Please provide your name, mailing address, the title, and EPA number of the requested publication when ordering from NSCEP. Copies may also be purchased from the National Technical Information Service (NTIS) in Springfield, Virginia; telephone: 1-800-553-NTIS[6847] or 703-605-6000; facsimile: 703-321-8547. When ordering from NTIS please provide the following numbers: PB2002-107662 (for QTRACER2) and PB2002-107663 (Lexicon).

FOR FURTHER INFORMATION CONTACT: For further information, please contact Malcolm Field (202-564-3279) mailing address: National Center for Environmental Assessment/Washington Office (8623D), U.S. Environmental Protection Agency, 1200 Pennsylvania Avenue, NW., Washington, DC 20460; facsimile: 202-565-0079; e-mail: field.malcolm@epa.gov.

Dated: November 17, 2002.
George W. Alapas,
Acting Director, National Center for Environmental Assessment.

[FR Doc. 02-30119 Filed 11-26-02; 8:45 am]

BILLING CODE 6560-50-P